DEPARTMENT OF TRANSPORTATION

National Highway Traffic Safety Administration

49 CFR Part 541

[Docket No. NHTSA-2004-17359]

RIN 2127-AJ27

Final Theft Data; Motor Vehicle Theft Prevention Standard

AGENCY: National Highway Traffic Safety Administration (NHTSA), Department of Transportation.

ACTION: Final theft data; correction.

SUMMARY: This document corrects typographical errors in the final theft data published on September 1, 2004 (69 FR 53354), for model year (MY) 2002 passenger motor vehicles that were stolen in calendar year (CY) 2002.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA is correcting errors in the MY 2002 theft data published in the Federal Register on September 1, 2004 (69 FR 53354). Specifically, NHTSA is correcting the typographical errors provided for the Saab 9-3 and Saab 9-5 vehicle lines respectively. The following corrections are to be made to page 53358 of the notice document:

1. On line number 157, in the 3rd column under Make/model (line), “38233” should read “9-3”.

2. On line number 198, in the 3rd column under Make/model (line), “38235” should read “9-5”.

Since the corrections made by this document are only to inform the public of previous agency actions, and do not impose any additional obligations on any party, NHTSA finds for good cause that the revisions made by this notice should be effective as soon as this notice is published in the Federal Register.

Issued on: October 27, 2004.
Stephen R. Kratzke,
Associate Administrator for Rulemaking.

[FR Doc. 04-24465 Filed 11-2-04; 8:45 am]

BILLING CODE 4910-59-P